DEPARTMENT OF ENERGY

Federal Energy Regulatory Commission

[Project No. 13239-000]

Parker Knoll Hydro, LLC; Notice of Preliminary Permit Application Accepted for Filing and Soliciting Comment, Motions To Intervene, and Competing Applications

September 19, 2008.

On June 17, 2008, Parker Knoll Hydro, LLC filed an application, pursuant to section 4(f) of the Federal Power Act, proposing to study the feasibility of the Parker Knoll Pumped Storage Project to be located in Piute County, Utah. The project would occupy federal lands of the Bureau of Land Management.

The proposed project consists of: (1) Two proposed upper reservoir earthen dams, a) 148-foot high, 600-foot-long, b) 32-foot-high, 800-foot-long; (2) a proposed reservoir having a surface area of 125 acres, a storage capacity of 8,212 acre-feet, and normal maximum water surface elevation of 9,610.4 feet msl, (3) a proposed 100-foot-high 4,679-foot-long earthen lower reservoir dam, (4) a proposed lower reservoir having a surface area of 117 acres, a storage capacity of 8,689 acre-feet and normal maximum water surface elevation of 7,109.2 feet msl, (5) a proposed 12,800-foot-long, 25-foot diameter concrete/steel penstock; (6) a proposed powerhouse with ten generating units having a total capacity of 1,330 MW; (7) a proposed 0.30-mile-long, 240-kV transmission line; and (8) appurtenant facilities. The project would have an annual generation of 3,640 GWh, and would be sold to a local utility.

Applicant Contact: Mr. Brent L. Smith, Symbiotics, LLC, P.O. Box 535 Rigby, ID 83442, Phone: 208-745-0834. FERC Contact: Henry Woo, 202-502-8872.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-13239) in the docket number field to access the document. For assistance, call toll-free 1-866-208-3372.

Kimberly D. Bose,
Secretary.

[FR Doc. E8-22621 Filed 9-25-08; 8:45 am]

BILLING CODE 6717-01-P